SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before July 15, 2008.

ADDRESSES: Send all comments regarding whether this information collection is necessary for the proper performance of the function of the agency, whether the burden estimates are accurate, and if there are ways to minimize the estimated burden and enhance the quality of the collection, to Louis Cupp, New Markets Policy Analyst, Office of Investment, Small Business Administration, 409 3rd Street SW., 8th floor, Wash., DC 20416

FOR FURTHER INFORMATION CONTACT: Louis Cupp, New Market Policy Analyst, Office of Investment, 202-619-0511 louis.cupp@sba.gov or Curtis B. Rich, Management Analyst, 202-205-7030 curtis.rich@sba.gov.

SUPPLEMENTARY INFORMATION: SBA uses the information collected for the New Market Venture Capital (NMVC) Program for proper oversight within the scope of the Small Business Act to access NMVC Program applicants and participants.

Title: “New Markets Venture Capital (NMVC) Program Application Funding and Reporting.”

Description of Respondents: Programs Applications and participants, SSBIC receiving grants under the NMVC program.

Form Numbers: SF-269, 270, 272, 424 SBA-2184, 2185, 2216, 34, 2211, 2210.

Annual Responses: 1,131.

Annual Burden: 1,151.

Jacqueline White,
Chief, Administrative Information Branch.

[FR Doc. E8-10940 Filed 5-15-08; 8:45 am]

BILLING CODE 8025-01-P